FEDERAL COMMUNICATIONS COMMISSION

47 CFR Part 73

[MB Docket No. 99-25; Report No. 2973]

Petition for Reconsideration of Action in a Rulemaking Proceeding

AGENCY: Federal Communications Commission.

ACTION: Petitions for reconsideration.

SUMMARY: In this document. Petitions for Reconsideration (Petitions) have been filed in the Commission's rulemaking proceeding by Michael Couzens and Alan Korn Esq on behalf of Michael Couzens and Alan Korn, Brandy Doyle and Paul Bame, on behalf of Prometheus Radio Project, Don Schellhardt, Esq., on behalf of LET CITIES IN!!, Michelle Eyre, on behalf of REC Networks, and Donald E. Martin P.C., on behalf of LifeTalk Radio, Inc.

DATES: Oppositions to the Petitions must be filed by March 21, 2013. Replies to an opposition must be filed April 1, 2013.

ADDRESSES: Federal Communications Commission, 445 12th Street SW., Washington, DC 20554.

FOR FURTHER INFORMATION CONTACT: Parul P. Desai, Media Bureau, 202-418-8217.

SUPPLEMENTARY INFORMATION: This is a summary of the Commission's document, Report No. 2973, released February 21, 2013. The full text of Report No. 2973 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Creation of a Low Power Radio Service, Amendment of Service and Eligibility Rules for FM Broadcast Translator Station, Petition for Reconsideration of Fifth Order on Reconsideration and Sixth Report and Order, published at 77 FR 21002, April 9, 2012, in MB Docket No. 99-25, and published pursuant to 47 CFR 1.429(e). See also 47 CFR 1.4(b)(1) of the Commission's rules.

Number of Petitions Filed: 5.

Federal Communications Commission.
Marlene H. Dortch,
Secretary.

[FR Doc. 2013-05192 Filed 3-5-13; 8:45 am]

BILLING CODE 6712-01-P